ENVIRONMENTAL PROTECTION AGENCY

[EPA-R05-OAR-2015-0075; FRL 9925-56-Region 5]

Adequacy Status of the Kenosha and Sheboygan Counties, Wisconsin Area Submitted 8-Hour Ozone Early Progress Plans for Transportation Conformity Purposes

AGENCY: Environmental Protection Agency.

ACTION: Notice of adequacy.

SUMMARY: In this notice, the Environmental Protection Agency (EPA) is notifying the public that we have found that the motor vehicle emissions budgets (MVEBs) for volatile organic compounds (VOCs) and oxides of nitrogen (NOX) in the Kenosha and Sheboygan, Wisconsin 8-hour ozone nonattainment areas are adequate for use in transportation conformity determinations. Wisconsin submitted Early Progress Plans for Kenosha and Sheboygan Counties on January 16, 2015. As a result of our finding, these areas must use these MVEBs for future transportation conformity determinations.

DATES: This finding is effective April 16, 2015.

FOR FURTHER INFORMATION CONTACT: Michael Leslie, Environmental Engineer, Control Strategies Section (AR-18J), Air Programs Branch, Air and Radiation Division, United States Environmental Protection Agency, Region 5, 77 West Jackson Boulevard, Chicago, Illinois 60604, (312) 353-6680, leslie.michael@epa.gov.

SUPPLEMENTARY INFORMATION: Throughout this document, whenever “we”, “us” or “our” is used, we mean EPA.

Background

Today's notice is simply an announcement of a finding that we have already made. On March 13, 2015, EPA sent a letter to the Wisconsin Department of Natural Resources stating that the 2015 MVEBs contained in the Early Progress Plans for Kenosha and Sheboygan Counties in Wisconsin are adequate for transportation conformity purposes. Receipt of these MVEBs was announced on EPA's transportation conformity Web site, and no comments were submitted. The finding is available at EPA's conformity Web site: http://www.epa.gov/otaq/stateresources/transconf/adequacy.htm.

The 2015 MVEBs, in tons per day (tpd), for VOCs and NOX for Kenosha and Sheboygan, Wisconsin areas are as follows:

Area | 2015 NOX (tpd) | 2015 VOCs (tpd)
Kenosha County | 4.379 | 1.994
Sheboygan County | 4.435 | 1.972

Transportation conformity is required by section 176(c) of the Clean Air Act. EPA's conformity rule requires that transportation plans, programs, and projects conform to state air quality implementation plans and establishes the criteria and procedures for determining whether or not they do conform. Conformity to a State Implementation Plan (SIP) means that transportation activities will not produce new air quality violations, worsen existing violations, or delay timely attainment of the national ambient air quality standards.

The criteria by which we determine whether a SIP's MVEBs are adequate for transportation conformity purposes are outlined in 40 CFR 93.118(e)(4). Please note that an adequacy review is separate from EPA's completeness review, and it also should not be used to prejudge EPA's ultimate approval of the SIP. Even if we find a budget adequate, the SIP could later be disapproved.

Authority: 42 U.S.C. 7401-7671q.

Dated: March 23, 2015.
Susan Hedman,
Regional Administrator, Region 5.

[FR Doc. 2015-07477 Filed 3-31-15; 8:45 am]

BILLING CODE 6560-50-P